DEPARTMENT OF TRANSPORTATION

Federal Transit Administration

Intent To Prepare an Environmental Impact Statement for Proposed Intermodal Transit Improvements in Hercules, CA

AGENCY: Federal Transit Administration (FTA), U.S. Department of Transportation.

ACTION: Notice of Intent (NOI) to prepare an Environmental Impact Statement (EIS).

SUMMARY: The Federal Transit Administration (FTA) in cooperation with the City of Hercules, CA (City) is planning to prepare a joint Environmental Impact Statement/Environmental Impact Report (EIS/EIR) for the construction of a proposed intermodal transit center project which includes a new passenger train station on the existing Capitol Corridor line, a transit bus terminal, access roadways, and parking facilities, located in Hercules, California. The project would serve commuters, visitors and recreational users who desire an alternative way to travel to and from the City of Hercules and the San Francisco Bay area and the Sacramento area to access employment, entertainment, and recreational destinations. This EIS/EIR will not study a ferry terminal as part of the proposed project. Any future ferry terminal will be evaluated under a separate environmental document. However, the potential for a future ferry terminal will be considered in the cumulative impact analysis for this project. The purpose of this Notice of Intent (NOI) is to alert interested parties on the preparation of an EIS/EIR, to provide information on the proposed transit project, to invite participation in the EIS/EIR process, including comments on the scope of the EIS/EIR, and to announce the public scoping meeting that will be conducted.

DATES: The City of Hercules has already initiated coordination with Federal, State and local agencies. On November 18th, 2009, the City of Hercules participated in an interagency meeting hosted at the U.S. Army Corps of Engineers office in San Francisco, California and presented an overview of the project and invited agency comment on the proposed project. Through the development of a public and agency coordination plan, coordination with responsible and cooperating agencies will continue throughout the review of the EIR/EIS and through permit coordination.

A scoping meeting will be held on December 8th, 2009 at 5:30 p.m. at the Hercules Library, Large Conference Room, 109 Civic Drive, Hercules, CA. Written comments on the scope of the EIS/EIR including the project's purpose and need, the alternatives to be considered, the impacts to be evaluated, and the methodologies to be used in the evaluations should be sent to Lisa Hammon, Assistant City Manager, City of Hercules, 111 Civic Drive, Hercules CA 94547 by December 23, 2009. Comments may also be offered at the scoping meeting.

The general public and agency representatives with an interest in the proposed project are encouraged to attend this public meeting. The project's purpose and need and the description of alternatives for the proposed project will be presented at this meeting. Representatives of Native American Tribal governments and all Federal, State, regional and local agencies that may have an interest in any aspect of the project will be invited to be participating or cooperating agencies, as appropriate.

ADDRESSES: The scoping meeting will be held on December 8th, 2009 at 5:30 p.m. at the Hercules Library, Large Conference Room, 109 Civic Drive, Hercules, CA. The meeting facilities will be accessible to persons with disabilities. If special translation or signing services or other special accommodations are needed, please contact Lisa Hammon, Assistant City Manager, at (510) 799-8251, or by e-mail at: LHammon@ci.hercules.ca.us at least 48 hours before the scoping meeting. Paper copies of scoping materials may be obtained from Lisa Hammon. Also, scoping materials will be available at the meetings and on the City of Hercules Web site [http://www.ci.hercules.ca.us].

Written comments on proposed project should be sent to Lisa Hammon, Assistant City Manager, City of Hercules, 111 Civic Drive, Hercules, CA 94547 by December 23, 2009.

Further Information: For further information contact Paul Page, Federal Transit Administration, San Francisco Regional Office at (415) 744-3133.

SUPPLEMENTARY INFORMATION: Scoping: The FTA and the City of Hercules invite all interested individuals, and organizations, public agencies and Native American Tribes to comment on the scope of the EIS, including the project's purpose and need, the alternatives to be studied, the impacts to be evaluated and the evaluation methods to be used. Comments should focus on: alternatives that may be less costly or have fewer environmental or community impacts while achieving similar transportation objectives, and the identification of any significant social, economic or environmental issues related to alternatives. This is not considered a transit project of unusual complexity. Therefore, in line with CEQ 1502.7 (page limits) FTA is setting a limit of 250 pages (exclusive of technical appendices) for this EIS. The document should emphasize graphics, maps and visual simulations, minimize technical jargon and be accessible to members of the public with limited technical expertise.

Description of Study Area and Proposed Project: The project site is located in Hercules, California, on the shoreline of San Pablo Bay (a part of San Francisco Bay), approximately 1 mile northwest of Interstate 80 (I-80). This is the City's Waterfront District which has been planned for transit oriented development. Project components would include: (1) Grade separation and realignment of a portion of the existing Union Pacific railroad tracks, including the construction of a rail platform, retaining walls and the replacement of a bridge crossing Refugio Creek; (2) construction of a station building; (3) extension of John Muir Parkway, including the construction of Bayfront Boulevard over Refugio Creek, a new Transit Loop Drive, Civic Plaza and surface parking; (4) realignment and restoration of a portion of Refugio Creek from San Pablo Bay upstream approximately 1000 feet to the existing restored segment; (5) construction of segments of the East Bay Park Regional District's recreational trail along the shoreline from Pinole trail to Victoria by the Bay; and, (6) a pedestrian walkway over the railroad tracks to provide a connection to the Hercules Point open space area. The project will also require the relocation of existing utility and gas lines and an outfall to Refugio Creek.

Purpose and Need for the Project: Residents of the San Francisco Bay Area depend heavily on region wide and transbay commuting. Despite the use of existing public transit services, particularly rail and buses, traffic congestion continues to increase, affecting hundreds of thousands of Bay Area residents and creating both economic and environmental costs. The severity of congestion will increase in the future as population and employment in the Bay Area increase. The purpose of the proposed project is to increase local and regional mobility and transportation options by providing new and expanded transit services with intermodal connections that will encourage use of public transit. The project would provide bus-to-train connections, in addition to providing car commuters with access to new transit options that would divert traffic from I-80, the most congested corridor in the Bay Area for the past six years. An expanded and more convenient transit system with new train connections to existing bus services would provide commuters with more options and would primarily decrease car usage and its associated impacts, rather than divert riders from existing buses, BART, or Capitol Corridor. Key project objectives are to:

1. Reduce vehicle trips on Interstate 80, the most congested freeway in the Bay Area, by providing alternatives to commuting in single occupant vehicles.

2. Provide coordinated, intermodal transit connections by bus, train, and a potential future ferry and human-powered connections by bicycling and walking for transport to/from jobs, recreational uses, educational opportunities, etc.

3. Improve emergency response by having rail and (ultimately) ferry service available in case of a natural or man-made disaster that disables the Bay Bridge or other highways/roadways. Ferry and rail service could also deliver goods and services in an emergency.

4. Support transit-oriented development and “new urbanist” standards by providing the transportation links within the 43-acre waterfront development which also includes housing (including affordable housing), retail, office, and commercial space.

5. Improve safety along the railroad corridor by providing completely grade-separated access to the railroad tracks from the adjacent development by constructing a series of retaining walls and fences for approximately one mile along the waterfront and by constructing over-crossings to Hercules Point and the future ferry terminal.

6. Implement the Goals, Policies and Programs in the City of Hercules General Plan to:

• Develop transportation facilities to provide access to the region, particularly public transit systems (buses, ridesharing, rail transit, as well as potential over-water transit) (Land Use Policy 3A, Circulation Policy e).

• Establish trail linkage between Pinole and Rodeo as part of the regional bay access trail system (Land Use Program 14A.2 and Open Space/Conservation Policy 1b) and continue to improve and protect Refugio Creek as a major environmental amenity (Program 14.A.3).

7. Improve Refugio Creek to allow adequate flows into the Bay without resulting in flooding.

8. Implement the City of Hercules Waterfront Master Plan Initiative and its directive to construct an intermodal transit center on Block I.

Alternatives: The EIS/EIR will include a Build alternative. Included in the Build analysis will be design alternatives to the proposed project that will meet both NEPA and CEQA requirements and are intended to reduce potential environmental effects, including impacts to sensitive biological habitat. A No Action (No Build) alternative will also be evaluated in the EIS/EIR which would continue with the existing bus services without the construction of a train station and a new bus terminal at the same location. This alternative serves as the baseline against which the environmental effects of the proposed project and other alternatives will be evaluated.

Traffic congestion is an ongoing and steadily increasing problem in the Bay Area, regardless of economic conditions. Alternatives to reduce traffic congestion have been explored in numerous previous studies. According to the Metropolitan Transportation Commission (MTC), the Bay Bridge approach corridor along Interstate 80 (I-80) from State Route 4 (SR-4) in Hercules to the Bay Bridge experiences the worst congestion in the Bay Area. Caltrans' Bay Area monitoring program found that between 1992 and 2005, traffic delay in the region as a whole more than doubled from 64,100 hours to 135,700 hours. According to Caltrans' 2006 report, between 2001 and 2005, traffic delay on the I-80 segment from SR-4 to the Bay Bridge metering lights increased by 16 percent, from 9,410 hours to 10,930 hours (MTC 2007). This segment includes the stretch of I-80 that passes near the proposed HITC project. MTC projects that traffic congestion will continue to worsen; by 2020, MTC expects that Bay Bridge traffic will increase by 50 percent and be “at capacity” for nearly five hours a day during the morning and afternoon peak hours. MTC also predicts that many more Bay Area workers, due to high housing costs, will be living far from their jobs, demanding that they spend more time commuting and polluting on roadways. Even during an economic downturn, BART runs at capacity through the Transbay Tube during peak hours. Improvements in commuter bus service are dependent upon traffic flow, and are limited by the need for more road capacity and more dedicated High Occupancy Vehicle (HOV) lanes for significant expansion. Increased train and transit services would provide expanded commute capacity while avoiding corresponding increases in traffic congestion.

Additionally, the San Francisco Bay Area Water Transit Authority (WTA), now the Water Emergency Transportation Authority (WETA), is a regional agency authorized by the State of California to operate a comprehensive San Francisco Bay Area public water transit system. In 2003, the WTA's plan, “A Strategy to Improve Public Transit with an Environmentally Friendly Ferry System” (the Plan) was approved by statute (Senate Bill 915, Ch. 714, stats of 2003). The Plan drew on extensive technical studies that examined ridership demand, cost effectiveness, vessel design, environmental impacts, safety, and operations. A Hercules-San Francisco route was identified in the Plan as a potential future ferry route. The potential environmental effects of proposed new ferry service on San Francisco Bay under the WTA Plan were studied at a program planning level in the Program Environmental Impact Report (Program EIR) prepared in 2003. The 2003 Program EIR included analysis of a Hercules/Rodeo location and seven other potential new ferry service locations around the Bay and Delta. While ferry service is anticipated for the city of Hercules, current planning for the ferry is still in development and is considered a future project. The current project proposes only to construct a rail and bus transit facility.

As part of the General Plan for the City of Hercules, the proposed project is intended to be the central element of a transit-oriented development (TOD) project that will include residential and commercial development clustered around transit facilities to enable local residents to use public transit and reduce the need for automobile use. The planned TOD, known as Hercules Bayfront, is not part of the project considered in this EIR/EIS, and will be the subject of a separate environmental review.

Probable Effects/Potential Impacts for Analysis: The purpose of the EIS process is to explore in a public setting potentially significant effects of implementing the proposed project and alternatives on the physical, human, and natural environment.

Implementation of the project components will result in direct effects to the physical environment and may include the loss of special aquatic sites such as tidal wetlands, mudflats, and riparian areas. Mitigation will be incorporated into the project design by first avoiding and minimizing impacts to resources. Compensatory mitigation will be provided for unavoidable impacts. Based on preliminary investigations for special status species the project may affect, but is unlikely to adversely affect, any species listed as threatened or endangered under the State or Federal endangered species acts.

The proposed project would extend the John Muir Parkway, provide parking for short-term and long-term parking, and develop a new access point to commuter rail. Each of these activities may encourage automobile traffic in the area that could adversely affect levels of service at nearby intersections.

FTA Procedures: Regulations implementing NEPA, as well as provisions of SAFETEA-LU, call for public involvement in the EIS process. Section 6002 of SAFETEA-LU requires that FTA do the following: (1) Extend an invitation to other Federal and non-Federal agencies and Indian Tribes that may have an interest in the proposed project to become participating agencies; (2) provide an opportunity for involvement by participating agencies and the public in helping to define the purpose and need for a proposed project, as well as the range of alternatives for consideration; and (3) establish a plan for coordinating public and agency participation in and comment on the environmental review process. An invitation to become a participating agency will be extended to other Federal and non-Federal agencies and Indian Tribes that may have an interest in the proposed project. It is possible that we may not be able to identify all Federal and non-Federal agencies and Indian Tribes that may have such an interest. Any Federal or non-Federal agency or Indian Tribe interested in the proposed project that does not receive an invitation to become a participating agency should notify, at the earliest opportunity, the City at the ADDRESSES or phone number above.

A comprehensive public involvement program has been developed. A technical advisory committee called the Project Development Team, consisting of representatives of State, regional and local agencies, is in place. The program also includes a public scoping process, a public review/comment period and public hearing on the Draft Environmental Impact Statement, development and distribution of project newsletters and posting of information on the project Web site. The purposes of and need for the proposed project have been preliminarily identified in this notice. We invite the public and participating agencies to consider the preliminary statement of purposes of and need for the proposed project, as well as potential alternatives, and the public is welcome to use the public scoping process to further define the issues of concern among all parties interested in the project. Comments on potential significant environmental impacts that may be associated with the proposed project are also welcomed. All comments and suggestions will be given serious consideration. Comments on potentially significant environmental impacts that may be associated with the proposed project are also welcomed. There will be additional opportunities to participate in the scoping process at the public meetings announced in this notice. In accordance with 23 CFR 771.105(a) and 771.133, FTA will comply with all Federal environmental laws, regulations and executive orders applicable to the proposed project during the environmental review process to the maximum extent practicable. These requirements include, but are not limited to, the regulations of the Council on Environmental Quality implementing NEPA (40 CFR parts 1500-1508 and 23 CFR part 771), the project-level air quality conformity regulation of the U.S. Environmental Protection Agency (EPA) (40 CFR part 93), section 404(b)(1) guidelines of EPA (40 CFR part 230), Executive Orders 11988, 11990 and 12898 regarding floodplains, wetlands, and environmental justice, respectively; Section 106 of the National Historic Preservation Act (36 CFR Part 800); Section 7 of the Endangered Species Act (50 CFR part 402); and Section 4(f) of the Department of Transportation Act (23 CFR 774). The EIR portion of the document will be prepared in accordance with the California Environmental Quality Act (CEQA) and the California Code of Regulations, Title 14, section 15000 et seq.

Dated: November 13, 2009.
Leslie T. Rogers,
Federal Transit Administration.

[FR Doc. E9-27896 Filed 11-19-09; 8:45 am]

BILLING CODE 4910-57-P